FEDERAL MARITIME COMMISSION

[Docket No. 25-11]

Phillip Marciano LLC, Complainant v. US Cargo Services Inc., Respondent; Notice of Filing of Complaint and Assignment

Served: June 26, 2025.

Correction

In notice document 2025-12246, appearing on page 28743, in the issue of Tuesday, July 1, 2025, in the document heading, the Docket Identification Number “[Docket No. 25-1]” should read “[Docket No. 25-11]”.

[FR Doc. C1-2025-12246 Filed 7-10-25; 8:45 am]

BILLING CODE 0099-10-D